DEPARTMENT OF COMMERCE

[I.D. 110404I]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Implantation and Recovery of Archival Tags.

Form Number(s): None.

OMB Approval Number: 0648-0338.

Type of Request: Regular submission.

Burden Hours: 17.

Number of Respondents: 24.

Average Hours Per Response: 30 minutes for tag recovery; 30 minutes for implantation notification; and one hour for implantation report.

Needs and Uses: Under a scientific research exemption any person may catch, possess, retain, and land any regulated species in which an archival tag has been affixed or implanted, provided that the person immediately reports the landing to NMFS. In addition, any person affixing or implanting an archival tag into a regulated species is required to provide NMFS with written notification in advance of beginning the tagging activity, and to provide a written report upon completion of the activity.

Affected Public: Individuals or households; business or other for-profit; not-for-profit institutions.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 3, 2004.
Gwellnar Banks,
Management Analyst, Office of the Chief Information Officer.

[FR Doc. 04-25089 Filed 11-9-04; 8:45 am]

BILLING CODE 3510-22-S